AGENCY FOR INTERNATIONAL DEVELOPMENT

30-Day Notice of Proposed Information Collection—U.S. Agency for International Development Acquisition Regulation

AGENCY: U.S. Agency for International Development.

ACTION: Notice of public information collection.

SUMMARY: The U.S. Agency for International Development (USAID) seeks Office of Management and Budget (OMB) approval to continue the information collection described below. In accordance with the Paperwork Reduction Act of 1995, USAID requests public comment on this collection from all interested individuals and organizations.

DATES: Submit comments on or before December 19, 2024.

ADDRESSES: Written comments and recommendations for the proposed information collection should be sent within 30 days of publication of this notice to https://www.reginfo.gov/public/do/PRAMain. Find this particular information collection by selecting “Currently under 30-day Review—Open for Public Comments” or by using the search function.

FOR FURTHER INFORMATION CONTACT: Ms. Nicole Thompson, at (202) 286-4696 or via email at policymailbox@usaid.gov.

SUPPLEMENTARY INFORMATION: This proposed information collection was published in the Federal Register on August 28, 2024 at 89 FR 68849, allowing for a 60-day public comment period. Only one comment was submitted which was out of scope and unrelated to the Notice. As a result, no changes were made; however, USAID corrected minor clerical errors in the Form 1420-17. The purpose of this notice is to allow an additional 30 days for public comment. Comments are requested concerning: (a) Whether the collections of information are necessary for the proper performance of the functions of the Agency, including whether the information shall have practical utility; (b) the accuracy of the burden estimates; (c) ways to enhance the quality, utility, and clarity of the information collected; and (d) ways to minimize the burden of the collection of information on the respondents, including through the use of automated collection techniques or other forms of information technology.

All comments must be in writing and submitted through the method(s) specified in the Addresses section above. All submissions must include the information collection title. Please include your name, title, organization, postal address telephone number, and email address in the text of the message. Please note that comments submitted in response to this Notice are public record. We recommend that you do not submit detailed personal information, Confidential Business Information, or any information that is otherwise protected from disclosure by statute.

OMB No: 0412-0520.

Form: AID 1420-17, Contractor Employee Biographical Data Sheet (AIDAR 752.7001).

Title: USAID Acquisition Regulation (AIDAR 701.106).

Type of Review: Extension, without change, of a currently approved collection.

Purpose: USAID contractors.

Annual Reporting Burden Hours: 97,208.

Jami J. Rodgers,
Senior Procurement Executive.

[FR Doc. 2024-26876 Filed 11-18-24; 8:45 am]

BILLING CODE 6116-01-P